DEPARTMENT OF ENERGY

Proposed Agency Information Collection

AGENCY: U.S. Department of Energy (DOE).

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 7, 2014. If you anticipate difficulty in submitting comments within that period, contact Mr. Dennis A. Smith as listed below.

ADDRESSES: Written comments may be sent to Mr. Dennis A. Smith, Office of Energy Efficiency and Renewable Energy, U.S. Department of Energy, EE-2G, 1000 Independence Avenue SW., Washington, DC 20585-0121, by phone at 202-586-1791, or by fax at 202-586-2476, or by email at dennis.a.smith@ee.doe.gov.

FOR FURTHER INFORMATION CONTACT: Requests for additional information or copies of the information collection instrument and instructions should be directed to Mr. Dennis Smith using the contact information listed above.

SUPPLEMENTARY INFORMATION: This information collection request contains: (1) OMB No.: New; (2) Information Collection Request Title: Consumers and Fuel Economy; (3) Type of Request: New Collection; (4) Purpose: The Consumers and Fuel Economy Study is a follow-on study of consumers' valuation of automotive fuel economy conducted in 2003. The purpose is to provide both a qualitative description based on in-home interviews and a quantitative estimate based on a national sample survey of the prevalence of consumers' fuel economy valuations across the population of car-owning households in the United States. The goals include the description of similarities and differences from the 2003 study and the further development of theory, models, or heuristics to explain consumers' valuations of fuel economy. This information will be made available to the general public via the joint Department of Energy and Environmental Protection Web site, www.fueleconomy.gov; (5) Estimated Number of Respondents: 54 household interviews (not an annual collection); (6) Estimated Number of Total Responses: 54; (7) Estimated Number of Burden Hours: 108 hours; (8) Annual Estimated Reporting and Recordkeeping Cost Burden: N/A—Not an annual collection.

Statutory Authority: 42 U.S.C. 13233; 42 U.S.C. 13252 (a)-(b); 42 U.S.C. 16191; 49 U.S.C. 32908 (g)-(2)-(A).

Issued in Washington, DC, on: January 3, 2014.
Patrick B. Davis,
Program Manager, Vehicle Technologies Program, Energy Efficiency and Renewable Energy.

[FR Doc. 2014-10238 Filed 5-2-14; 8:45 am]

BILLING CODE 6450-01-P